DEPARTMENT OF TRANSPORTATION

Federal Aviation Administration

14 CFR Part 39

[Docket No. FAA-2022-0019; Project Identifier MCAI-2021-00371-R; Amendment 39-21930; AD 2022-03-13]

RIN 2120-AA64

Airworthiness Directives; Airbus Helicopters

AGENCY: Federal Aviation Administration (FAA), DOT.

ACTION: Final rule; request for comments.

SUMMARY: The FAA is superseding Airworthiness Directive (AD) 2014-21-03, which applied to Airbus Helicopters Model AS332L2 helicopters with a certain yaw control damper support (support) installed. AD 2014-21-03 required repetitively inspecting the support attachment points for a crack. Since the FAA issued AD 2014-21-03, an improved (reinforced) support was developed. This AD retains the inspection requirements of AD 2014-21-03 and requires installing the improved support as specified in a European Union Aviation Safety Agency (EASA) AD, which is incorporated by reference. The FAA is issuing this AD to address the unsafe condition on these products.

DATES: This AD becomes effective March 1, 2022.

The Director of the Federal Register approved the incorporation by reference of a certain document listed in this AD as of March 1, 2022.

The FAA must receive comments on this AD by March 31, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material that is incorporated by reference (IBR) in this AD, contact the EASA, Konrad-Adenauer-Ufer 3, 50668 Cologne, Germany; telephone +49 221 8999 000; email ADs@easa.europa.eu; internet www.easa.europa.eu. You may view the EASA material at the FAA, Office of the Regional Counsel, Southwest Region, 10101 Hillwood Pkwy., Room 6N-321, Fort Worth, TX 76177. For information on the availability of this material at the FAA, call (817) 222-5110. The EASA material is also available at https://www.regulations.gov by searching for and locating Docket No. FAA-2022-0019.

Examining the AD Docket

You may examine the AD docket at https://www.regulations.gov by searching for and locating Docket No. FAA-2022-0019; or in person at Docket Operations between 9 a.m. and 5 p.m., Monday through Friday, except Federal holidays. The AD docket contains this AD, the EASA AD, any comments received, and other information. The street address for Docket Operations is listed above.

FOR FURTHER INFORMATION CONTACT: Hal Jensen, Aerospace Engineer, Operational Safety Branch, Compliance & Airworthiness Division, FAA, 950 L'Enfant Plaza N SW, Washington, DC 20024; telephone (202) 267-9167; email hal.jensen@faa.gov.

SUPPLEMENTARY INFORMATION:

Background

The FAA issued AD 2014-21-03, Amendment 39-17995 (79 FR 63809, October 27, 2014) (AD 2014-21-03), for Airbus Helicopters Model AS332L2 helicopters with a support part number (P/N) 332A25-1334-00 installed. AD 2014-21-03 required for helicopters with 3,900 hours time-in-service (TIS) or more, within 100 hours TIS and thereafter at intervals not exceeding 825 hours TIS, inspecting each support at the four attachment points for a crack. If there is a crack, AD 2014-21-03 required replacing the support before further flight. AD 2014-21-03 was prompted by EASA AD 2014-0080, dated March 27, 2014 (EASA AD 2014-0080), issued by EASA, which is the Technical Agent for the Member States of the European Union, to correct an unsafe condition for Airbus Helicopters, formerly Eurocopter, Eurocopter France, Aerospatiale, Model AS332L2 helicopters with support P/N 332A25-1334-00 installed. EASA advised of several reports of cracks on the two front attachment points of the support, and that subsequent investigations determined pilot actions on the yaw pedals could generate detrimental loading conditions on the support attachment points and initiate a crack. This condition, if not addressed could lead to structural failure of the support, detachment of the damper unit, possible blocking of the yaw flight control channel, and reduced control of the helicopter. Accordingly, EASA AD 2014-0080 required repetitive inspections of the support and, if there is a crack, replacing the support.

Actions Since AD 2014-21-03 Was Issued

Since the FAA issued AD 2014-21-03 Airbus Helicopters developed an improved support with improved fatigue and load carrying capabilities and issued service information that provides instructions for modifying the support.

Accordingly, EASA issued AD 2021-0086, dated March 24, 2021 (EASA AD 2021-0086), which superseded EASA AD 2014-0080. EASA AD 2021-0086 retains the inspection requirements of EASA AD 2014-0080 and requires replacement of any affected part with a serviceable part. EASA AD 2014-0086 also expands the applicability to include all Model AS332L2 helicopters. See EASA AD 2021-0086 for additional background information.

Related Service Information Under 1 CFR Part 51

EASA AD 2021-0086 specifies procedures for repetitively inspecting the support at the four attachment points in accordance with the instructions of the service information. EASA AD 2021-0086 also specifies procedures for modifying the helicopter by replacing an affected part with an improved part, which is a terminating action for the repetitive inspections. EASA AD 2021-0086 prohibits installing any affected part on any helicopter.

This material is reasonably available because the interested parties have access to it through their normal course of business or by the means identified in the ADDRESSES section.

Other Related Service Information

The FAA reviewed Airbus Helicopters Alert Service Bulletin No. AS332-05.00.98, Revision 1, dated February 10, 2021 (ASB AS332-05.00.98 Rev 1), which specifies procedures to inspect for cracks on the support at the four attachments of the yaw damper. ASB AS332-05.00.98 Rev 1 specifies if any crack is found, replace the support by modifying your helicopter in accordance with the modification service bulletin.

The FAA also reviewed Airbus Helicopters Service Bulletin SB No. AS332-67.00.52, Revision 0, dated March 2, 2020, which specifies procedures to modify your helicopter by replacing the support with a new improved support (modification 0728207).

FAA's Determination

These helicopters have been approved by EASA and are approved for operation in the United States. Pursuant to the FAA's bilateral agreement with the European Union, EASA has notified the FAA about the unsafe condition described in its AD. The FAA is issuing this AD after evaluating all known relevant information and determining that the unsafe condition described previously is likely to exist or develop on other helicopters of these same type designs.

Explanation of Retained Requirements

Although this AD does not explicitly restate the requirements of AD 2014-21-03, this AD retains certain requirements of AD 2014-21-03. Those requirements are referenced in EASA AD 2021-0086, which in turn, is referenced in paragraph (g) of this AD.

Requirements of This AD

This AD requires accomplishing the actions specified in EASA AD 2021-0086, described previously, as incorporated by reference, except for any differences identified as exceptions in the regulatory text of this AD and except as discussed under “Differences Between this AD and EASA AD 2021-0086.”

Explanation of Required Compliance Information

In the FAA's ongoing efforts to improve the efficiency of the AD process, the FAA developed a process to use certain civil aviation authority (CAA) ADs as the primary source of information for compliance with requirements for corresponding FAA ADs. The FAA has been coordinating this process with manufacturers and CAAs. As a result, EASA AD 2021-0086 is incorporated by reference in this AD. This AD therefore, requires compliance with EASA AD 2021-0086 in its entirety, through that incorporation, except for any differences identified as exceptions in the regulatory text of this AD. Using common terms that are the same as the heading of a particular section in EASA AD 2021-0086 does not mean that operators need comply only with that section. For example, where the AD requirement refers to “all required actions and compliance times,” compliance with this AD requirement is not limited to the section titled “Required Action(s) and Compliance Time(s)” in EASA AD 2021-0086. Service information specified in EASA AD 2021-0086 that is required for compliance with it will be available at https://www.regulations.gov by searching for and locating Docket No. FAA-2022-0019 after the FAA final rule is published.

Differences Between This AD and EASA AD 2021-0086

Where Note 1 of EASA AD 2021-0086 identifies the flight hours (FH) specified in Table 1 of EASA AD 2021-0086 are those accumulated by the affected part on April 3, 2014 (the effective date of EASA AD 2014-0080), since first installation on a helicopter, this AD requires using the total hours TIS accumulated by the helicopter as of the effective date of this AD. Where Table 1 of EASA AD 2021-0086 requires a compliance time of within 100 FH after April 3, 2014, this AD requires a compliance time of within 100 hours TIS after the effective date of this AD. Where paragraph (3) of EASA AD 2021-0086 allows credit for inspections of a helicopter as required in paragraph (1) of its AD if the inspections are accomplished before the effective date of its AD, this AD allows credit for the initial inspection of a helicopter as required by paragraph (1) of EASA AD 2021-0086, if accomplished before the effective date of this AD.

Justification for Immediate Adoption and Determination of the Effective Date

Section 553(b)(3)(B) of the Administrative Procedure Act (APA) (5 U.S.C. 551 et seq.) authorizes agencies to dispense with notice and comment procedures for rules when the agency, for “good cause” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are currently no domestic operators of these products. Accordingly, notice and opportunity for prior public comment are unnecessary, pursuant to 5 U.S.C. 553(b)(3)(B). In addition, for the foregoing reasons, the FAA finds that good cause exists pursuant to 5 U.S.C. 553(d) for making this amendment effective in less than 30 days.

Comments Invited

The FAA invites you to send any written data, views, or arguments about this final rule. Send your comments to an address listed under ADDRESSES. Include “Docket No. FAA-2022-0019; Project Identifier MCAI-2021-00371-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to: Hal Jensen, Aerospace Engineer, Operational Safety Branch, Compliance & Airworthiness Division, FAA, 950 L'Enfant Plaza N SW, Washington, DC 20024; telephone (202) 267-9167; email hal.jensen@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

There are no costs of compliance with this AD because there are no helicopters with these type certificates on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2014-21-03, Amendment 39-17995 (79 FR 63809, October 27, 2014); and

b. Adding the following new airworthiness directive:

AD 2022-03-13 Airbus Helicopters: Amendment 39-21930; Docket No. FAA-2022-0019; Project Identifier MCAI-2021-00371-R.

(a) Effective Date

This airworthiness directive (AD) is effective March 1, 2022.

(b) Affected ADs

This AD replaces AD 2014-21-03, Amendment 39-17995 (79 FR 63809, October 27, 2014) (AD 2014-21-03).

(c) Applicability

This AD applies to all Airbus Helicopters Model AS332L2 helicopters, certificated in any category.

(d) Subject

Joint Aircraft Service Component (JASC) Code: 6700, Rotorcraft Flight Control.

(e) Unsafe Condition

This AD was prompted by several reports of cracks in the front attachment points of certain yaw control damper supports (supports) and the subsequent development of an improved (reinforced) support with improved fatigue and load carrying capabilities. The FAA is issuing this AD to prevent failure of the support, separation of the yaw damper unit, blocking of the yaw flight control channel, and reduced control of the helicopter.

(f) Compliance

Comply with this AD within the compliance times specified, unless already done.

(g) Requirements

Except as specified in paragraph (h) of this AD: Comply with all required actions and compliance times specified in, and in accordance with, European Union Aviation Safety Agency (EASA) AD 2021-0086, dated March 24, 2021 (EASA AD 2021-0086).

(h) Exceptions to EASA AD 2021-0086

(1) Where EASA AD 2021-0086 requires compliance from its effective date, this AD requires using the effective date of this AD.

(2) The “Remarks” section of EASA AD 2021-0086 does not apply to this AD.

(3) Where EASA AD 2021-0086 requires compliance in terms of flight hours (FH), this AD requires using hours time-in-service (TIS).

(4) Where the service information referenced in EASA AD 2021-0086 specifies using a light source and a mirror to ensure that there are no cracks on the support at the four attachments of the yaw damper, and “if there is any doubt” removing the yaw damper, this AD requires the yaw damper to be removed prior to that inspection.

(5) Where the service information referenced in EASA AD specifies discarding certain parts, this AD requires removing those parts from service.

(6) Where Table 1 of EASA AD 2021-0086 requires a compliance time of within 100 FH after April 3, 2014 (the effective date of EASA AD 2014-0080, dated March 27, 2014 [EASA AD 2014-0080]), this AD requires a compliance time of within 100 hours TIS after the effective date of this AD.

(7) Where Note 1 of EASA AD 2021-0086 identifies the FH specified in Table 1 are those accumulated by support part number 332A25-1334-00 on April 3, 2014 (the effective date of EASA AD 2014-0080) since first installation on a helicopter, this AD requires using the total hours TIS accumulated by the helicopter as of the effective date of this AD.

(8) Where paragraph (3) of EASA AD 2021-0086 allows credit for inspections accomplished before the effective date of its AD, this AD allows credit for the initial inspection if accomplished before the effective date of this AD.

(i) No Reporting Requirement

Although the service information referenced in EASA AD 2021-0086 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Hal Jensen, Aerospace Engineer, Operational Safety Branch, Compliance & Airworthiness Division, FAA, 950 L'Enfant Plaza N SW, Washington, DC 20024; telephone (202) 267-9167; email hal.jensen@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0086, dated March 24, 2021.

(ii) [Reserved]

(3) For EASA AD 2021-0086, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket on the internet at https://www.regulations.gov by searching for and locating Docket No. FAA-2022-0019.

(5) You may view this material that is incorporated by reference at the National Archives and Records Administration (NARA). For information on the availability of this material at NARA, email fr.inspection@nara.gov, or go to https://www.archives.gov/federal-register/cfr/ibr-locations.html.

Issued on January 24, 2022.
Lance T. Gant,
Director, Compliance & Airworthiness Division, Aircraft Certification Service.

[FR Doc. 2022-03113 Filed 2-11-22; 8:45 am]

BILLING CODE 4910-13-P